DEPARTMENT OF COMMERCE

Foreign-Trade Zones Board

[Docket 39-2002, 40-2002, 41-2002, 42-2002, 43-2002, 44-2002, 45-2002, 46-2002, 47-2002, and 48-2002]

Flint Ink North America Corporation—Applications For Foreign-Trade Subzone Status; Extension of Comment Period

The comment periods for the cases referenced above (67 FR 64088-64096, 10/17/2002) are being extended to February 14, 2003, to allow interested parties additional time in which to comment on the proposals. These ten related cases involve pending subzone applications from the following Foreign-Trade Zones:

Foreign-Trade Zone 143—Sacramento, California

Foreign-Trade Zone 170—Indianapolis, Indiana

Foreign-Trade Zone 182—Fort Wayne, Indiana

Foreign-Trade Zone 29—Louisville, Kentucky

Foreign-Trade Zone 47—Boone County, Kentucky

Foreign-Trade Zone 189—Kent-Ottawa-Muskegon Counties, Michigan

Foreign-Trade Zone 46—Cincinnati, Ohio

Foreign-Trade Zone 105—Providence, Rhode Island

Foreign-Trade Zone 21—Charleston, South Carolina

Foreign-Trade Zone 185—Culpeper, Virginia

Comments in writing are invited during this period. Submissions should include 3 copies. Material submitted will be available at: Foreign-Trade-Zones Board, U.S. Department of Commerce, Franklin Court Building—Suite 4100W, 1099 14th St. NW., Washington, DC 20005.

Dated: November 5, 2002.
Dennis Puccinelli,
Executive Secretary.

[FR Doc. 02-28816 Filed 11-12-02; 8:45 am]

BILLING CODE 3510-DS-P